NUCLEAR REGULATORY COMMISSION

[NRC-2010-0072]

Notice of Issuance of Regulatory Guide

AGENCY: Nuclear Regulatory Commission.

ACTION: Notice of Issuance and Availability of Regulatory Guide 3.13, Revision 1, “Design, Construction, and Inspection of Embankment Retention Systems at Fuel Cycle Facilities.”

FOR FURTHER INFORMATION CONTACT: Mark Orr, Regulatory Guide Development Branch, Division of Engineering, Office of Nuclear Regulatory Research, U.S. Nuclear Regulatory Commission, Washington, DC 20555-0001, telephone (301) 251-7495 or e-mail Mark.Orr@nrc.gov.

SUPPLEMENTARY INFORMATION:

I. Introduction

The U.S. Nuclear Regulatory Commission (NRC) is issuing a revision to an existing guide in the agency's “Regulatory Guide” series. This series was developed to describe and make available to the public information such as methods that are acceptable to the NRC staff for implementing specific parts of the agency's regulations, techniques that the staff uses in evaluating specific problems or postulated accidents, and data that the staff needs in its review of applications for permits and licenses.

Revision 1 of Regulatory Guide 3.13, “Design, Construction, and Inspection of Embankment Retention Systems at Fuel Cycle Facilities,” was issued with a temporary identification as Draft Regulatory Guide, DG-3040. This guide describes some engineering practices and methods generally considered by the NRC to be satisfactory for the design, construction, and inspection of embankment retention systems used for retaining solid and liquid effluent from nuclear fuel cycle facility operations other than mining and milling. These practices and methods are the result of NRC review and action on a number of specific cases, and they reflect the latest general engineering approaches that are acceptable to the NRC staff. If future information results in alternative methods, the NRC staff will review such methods to determine their acceptability.

The NRC recognizes the need for significant revision of this guide to address newer technology and environmental considerations. The NRC is revising this guidance to provide regulatory recommendations and positions that focus on more modern designs with perimeter embankments.

II. Further Information

In February 2010, DG-3040 was published with a public comment period of 60 days from the issuance of the guide. No comments were received and the public comment period closed on April 30, 2010. Electronic copies of Regulatory Guide 3.13, Revision 1 are available through the NRC's public Web site under “Regulatory Guides” at http://www.nrc.gov/reading-rm/doc-collections/ and through the NRC's Agencywide Documents Access and Management System (ADAMS) at http://www.nrc.gov/reading-rm/adams.html under Accession No. ML101470167. The regulatory analysis may be found in ADAMS under Accession No. ML101470167.

In addition, regulatory guides are available for inspection at the NRC's Public Document Room (PDR) located at Room O-1F21, One White Flint North, 11555 Rockville Pike, Rockville, Maryland 20852-2738. The PDR's mailing address is USNRC PDR, Washington, DC 20555-0001. The PDR can also be reached by telephone at (301) 415-4737 or (800) 397-4209, by fax at (301) 415-3548, and by e-mail to pdr.resources@nrc.gov.

Regulatory guides are not copyrighted, and NRC approval is not required to reproduce them.

Dated at Rockville, Maryland, this 23rd day of July, 2010.
For the Nuclear Regulatory Commission.
Harriet Karagiannis,
Acting Chief, Regulatory Guide Development Branch, Division of Engineering, Office of Nuclear Regulatory Research.

[FR Doc. 2010-18892 Filed 7-30-10; 8:45 am]

BILLING CODE 7590-01-P